DEPARTMENT OF TRANSPORTATION

Federal Aviation Administration

14 CFR Part 39

[Docket No. FAA 2004-19119; Directorate Identifier 2004-CE-26-AD]

RIN 2120-AA64

Airworthiness Directives; Raytheon Aircraft Company, Model 390, Premier 1 Airplanes

AGENCY: Federal Aviation Administration (FAA), DOT.

ACTION: Notice of proposed rulemaking (NPRM).

SUMMARY: The FAA proposes to adopt a new airworthiness directive (AD) for certain Raytheon Aircraft Company, Model 390, Premier 1 airplanes. This proposed AD would require you to inspect the routing and security of the left and right main landing gear (MLG) squat switch wire harness installations for damage, repair any damage or replace components, and reinstall the squat switch wire harness. This proposed AD results from reports of damage to the left and/or right MLG wire harness assemblies, which resulted in various system failures/anomalies due to erroneous air/ground status signals. We are issuing this proposed AD to prevent damage to the wire harnesses, which could result in loss of lift dump, loss of pressurization, loss of transponder responses to interrogations, and failure of other systems utilizing air/ground status signals. This failure could lead to loss of control of the airplane.

DATES: We must receive any comments on this proposed AD by November 16, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Raytheon Aircraft Company, PO Box 85, Wichita, Kansas 67201-0085; telephone: (800) 625-7043.

To view the comments to this proposed AD, go to http://dms.dot.gov. The docket number is FAA 2004-19119.

FOR FURTHER INFORMATION CONTACT: Philip Petty, Aerospace Engineer, ACE-119W, Wichita Aircraft Certification Office, 1801 Airport Road, Room 100, Wichita, Kansas 67209; telephone: (316) 946-4139; facsimile: (316) 946-4107.

SUPPLEMENTARY INFORMATION:

Comments Invited

How do I comment on this proposed AD? We invite you to submit any written relevant data, views, or arguments regarding this proposal. Send your comments to an address listed under ADDRESSES. Include the docket number, “FAA 2004-19119; Directorate Identifier 2004-CE-26-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA 2004-19119. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? FAA received reports of damage to the left and/or right MLG wire harness assemblies on Raytheon Model 390 airplanes. This resulted in various system failures/anomalies due to erroneous air/ground status signals. Improper installation of Kit 390-8103-0001 may have resulted in the damage to the squat switch wire harness assemblies during normal extension and retraction operations. A damaged wire harness and/or squat switch installation may affect multiple systems on the airplane.

What is the potential impact if FAA took no action? Damage to the wire harnesses could result in loss of lift dump, loss of pressurization, loss of transponder responses to interrogations, and failure of other systems utilizing air/ground status signals. This failure could lead to loss of control of the airplane.

Is there service information that applies to this subject? Raytheon Aircraft Company has issued Service Bulletin SB 32-3678, dated June 2004.

What are the provisions of this service information? The service bulletin includes procedures for:

—Inspecting the squat switch bracket for corrosion or cracking;

—replacing the squat switch bracket, if damaged;

—inspecting the MLG wiring harness; and

—relocating the MLG wire harness tie straps and the M85052/1-8 mounting clamp.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 98 airplanes in the U.S. registry.

What would be the cost impact of this proposed AD on owners/operators of the affected airplanes? Raytheon Aircraft Company will provide warranty credit as specified in the service information.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA 2004-19119; Directorate Identifier 2004-CE-26-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. FAA 2004-19119, Directorate Identifier 2004-CE-26-AD.

When is the Last Date I can Submit Comments on this Proposed AD?

(a) We must receive comments on this proposed airworthiness directive (AD) by November 16, 2004.

What Other ADs Are Affected by This Action?

(b) None.

What Airplanes Are Affected by This AD?

(c) This AD affects the following airplane model and serial numbers that are certificated in any category: Model 390 Premier I, Serials RB-1, RB-4 through RB-84, RB-87 through RB-90, RB-92 through RB-96, RB-99 through RB-101, and RB-103 through RB-106.

What is the Unsafe Condition Presented in This AD?

(d) This AD is the result of reports of damage to the left and/or right main landing gear (MLG) wire harness assemblies, which resulted in various system failures/anomalies due to erroneous air/ground status signals. The actions specified in this AD are intended to prevent damage to the wire harnesses, which could result in loss of lift dump, loss of pressurization, loss of transponder responses to interrogations, and failure of other systems utilizing air/ground status signals. This failure could lead to loss of control of the airplane.

What Must I Do To Address This Problem?

(e) To address this problem, you must do the following:

Actions | Compliance | Procedures
(1) For airplanes prior to serial number RB-100 with Kit 390-8103-0001 installed, and for airplanes with production installation of the plunger-style squat switch, serial numbers RB-100, RB-101, and RB-103 through RB-106, perform the following actions: | Inspect within 30 days after the effective date of this AD. If damage is found, replace the switch bracket prior to further flight after the inspection | Follow Raytheon Aircraft Company Service Bulletin SB 32-3678, dated June 2004.
(i) Visually inspect the squat switch bracket for corrosion or cracking (damage)
(ii) If damage is found, replace the switch bracket with part number 390-810008-0003/-0004
(2) All airplanes affected by this AD perform the following actions: (i) Inspect MLG wiring harness service loop for excessive length in air mode (strut extended). The radius of the wire harness service loop should not exceed that of the brake hose service loop. The radius of the brake hose loop should not exceed the radius of the tire. If the length is excessive in air mode, correct in accordance with Raytheon Aircraft Company Service Bulletin SB 32-3678, dated June 2004. | Within 30 days after the effective date of this AD | Follow Raytheon arcart Company Service Bulletin SB 32-3678, dated June 2004.
(ii) Remove and relocate tie straps and M85052/1-8 mounting clamp.
(iii) Perform the landing gear operational test.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Philip Petty, Aerospace Engineer, ACE-119W, Wichita Aircraft Certification Office, 1801 Airport Road, Room 100, Wichita, Kansas 67209; telephone: (316) 946-4139; facsimile: (316) 946-4107.

May I Get Copies of the Documents Referenced in this AD?

(g) To get copies of the documents referenced in this AD, contact Raytheon Aircraft Company, PO Box 85, Wichita, Kansas 67201-0085; telephone: (800) 625-7043. To view the AD docket, go to the Docket Management Facility; U.S. Department of Transportation, 400 Seventh Street, SW., Nassif Building, Room PL-401, Washington, DC, or on the Internet at http://dms.dot.gov. The docket number is FAA 2004-19119.

Issued in Kansas City, Missouri, on September 29, 2004.
Dorenda D. Baker,
Manager, Small Airplane Directorate, Aircraft Certification Service.

[FR Doc. 04-22585 Filed 10-6-04; 8:45 am]

BILLING CODE 4910-13-P